INTERNATIONAL TRADE COMMISSION

[Investigation No. 731-TA-539-C (Second Review)]

Uranium From Russia

Determination

On the basis of the record ¹ developed in the subject five-year review, the United States International Trade Commission (Commission) determines, pursuant to section 751(c) of the Tariff Act of 1930 (19 U.S.C. 1675(c)) (the Act), that termination of the suspended investigation on uranium from Russia would be likely to lead to continuation or recurrence of material injury to an industry in the United States within a reasonably foreseeable time.²

¹ The record is defined in sec. 207.2(f) of the Commission's Rules of Practice and Procedure (19 CFR 207.2(f)).

² Commissioner Deanna Tanner Okun did not participate in this review; Commissioner Charlotte R. Lane made a negative determination.

Background

The Commission instituted this review on July 1, 2005 (70 FR 38212) and determined on October 4, 2005 that it would conduct a full review (70 FR 60368, October 17, 2005). Notice of the scheduling of the Commission's review and of a public hearing to be held in connection therewith was given by posting copies of the notice in the Office of the Secretary, U.S. International Trade Commission, Washington, DC, and by publishing the notice in the Federal Register on January 20, 2006 (71 FR 3326).³ The hearing was held in Washington, DC, on May 25, 2006, and all persons who requested the opportunity were permitted to appear in person or by counsel.

³ A revision to the schedule was published in the Federal Register on April 7, 2006 (71 FR 17915).

The Commission transmitted its determination in this review to the Secretary of Commerce on August 1, 2006. The views of the Commission are contained in USITC Publication 3872 (August 2006), entitled Uranium from Russia: Investigation No. 731-TA-539-C (Second Review).

Issued: August 1, 2006.
By order of the Commission.
Marilyn R. Abbott,
Secretary to the Commission.

[FR Doc. E6-12779 Filed 8-4-06; 8:45 am]

BILLING CODE 7020-02-P